DEPARTMENT OF STATE

[Public Notice: 9974]

30-Day Notice of Proposed Information Collection: Evacuee Manifest and Promissory Note

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to June 5, 2017.

ADDRESSES:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Derek A. Rivers, Bureau of Consular Affairs, Overseas Citizens Services (CA/OCS/PMO), U.S. Department of State, 2201 C. St. NW., Washington, DC 20522, who may be reached at RiversDA@state.gov.

SUPPLEMENTARY INFORMATION:

• Title of Information Collection: Evacuee Manifest and Promissory Note.

• OMB Control Number: 1405-0211.

• Type of Request: Extension of a Currently Approved Collection.

• Originating Office: Bureau of Consular Affairs, Overseas Citizens Services (CA/OCS).

• Form Number: DS-5528.

• Respondents: U.S. citizens, U.S. non-citizen nationals, lawful permanent residents, and third country nationals applying for emergency loan assistance during an evacuation.

• Estimated Number of Respondents: 525.

• Estimated Number of Responses: 525.

• Average Time per Response: 20 minutes.

• Total Estimated Burden Time: 175 hours.

• Frequency: On Occasion.

• Obligation to Respond: Required to Obtain Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The purpose of the DS-5528 is to document the evacuation of persons from abroad when their lives are endangered by war, civil unrest, or natural disaster; document issuance of a crisis evacuation loan; obtain a Privacy Act Waiver to share information about the welfare of a U.S. citizen or U.S. lawful permanent resident consistent with the Privacy Act of 1974; and, to facilitate debt collection.

Methodology

An electronic version of the Evacuee Manifest and Promissory Note was created, allowing applicants to type their information into the form, print it, and present it to a consular officer at the evacuation point. Continued software development will provide the capability to electronically submit signed loan applications for adjudication. The final stage of software development will not only allow the applicant to enter his/her information and submit the form, but will also make the information available for all stages of financial processing including the Department of State's debt collection process. Due to the potential for serious conditions during crisis events that often affect electronic and internet infrastructure systems, the electronic form will not replace the paper form. Rather, the paper form will still be maintained and used in the event that applicants are unable to submit forms electronically.

Michelle Bernier-Toth,
Managing Director, Bureau of Consular Affairs, Overseas Citizens Services, Department of State.

[FR Doc. 2017-09171 Filed 5-4-17; 8:45 am]

BILLING CODE 4710-06-P